DEPARTMENT OF AGRICULTURE

Submission for OMB Review; Comment Request

August 17, 2006.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Rural Housing Service

Title: Section 515 Multi-Family Housing Preservation and Revitalization Restructuring Demonstration Program (MPR) for Fiscal Year 2006.

OMB Control Number: 0575-0190.

Summary of Collection: The Agriculture, Rural Development, Food and Drug Administration, and Related Agencies Appropriations Act, 2006 (P.L. 109-97) provided funding for, and authorizes the Rural Housing Service (RHS) to conduct a demonstration program for the preservation and revitalization of the Section 515 multi-family housing portfolio. The Multi-Family Housing Preservation and Revitalization Restructuring Demonstration Program will utilize numerous authorities to provide the financial assistance necessary to revitalize rental properties and preserve them for affordable housing.

Need and Use of the Information: RHS will use the collected information to evaluate the strengths and weaknesses to which the proposal concept possesses or lacks to select the most feasible proposals that will enhances the Agency's chances in accomplishing the demonstration objective. The information will be utilized to sustain and modify RHS' current policies pertaining to revitalization and preservation of affordable rental housing in rural areas.

Description of Respondents: Individuals or households; not-for-profit institutions; State, Local, or Tribal Government.

Number of Respondents: 3,600.

Frequency of Responses: Recordkeeping; Reporting: Annually.

Total Burden Hours: 4,670.

Charlene Parker,
Departmental Information Collection Clearance Officer.

[FR Doc. E6-13874 Filed 8-21-06; 8:45 am]

BILLING CODE 3410-XT-P